ENVIRONMENTAL PROTECTION AGENCY

[9931-85-Region 10]

Final Reissuance of a General NPDES Permit (GP) for Oil and Gas Exploration Facilities in the Federal Waters of Cook Inlet, Alaska

AGENCY: Region 10, Environmental Protection Agency.

ACTION: Final notice of reissuance of a general permit.

SUMMARY: EPA is reissuing a National Pollutant Discharge Elimination System (NPDES) GP (AKG-28-5100) to cover Oil and Gas Exploration Facilities in the Federal Waters of Cook Inlet. EPA proposed the GP on March 22, 2013 for a 60 day comment period. Public Hearings were held the week of April 29, 2013, in Kenai (April 29), Homer (April 30), and Anchorage (May 2).

DATES: The effective date of this GP will be September 1, 2016.

ADDRESSES: Copies of the GP and Response to Comments are available through written requests submitted to EPA, Region 10, 1200 Sixth Avenue, Suite 900, OWW-191, Seattle, WA 98101. Electronic requests may be sent to: washington.audrey@epa.gov or godsey.cindi@epa.gov. For requests by phone, call Audrey Washington at (206) 553-0523 or Cindi Godsey at (206) 553-1676.

FOR FURTHER INFORMATION CONTACT: The GP, Fact Sheet, Response to Comments and Ocean Discharge Criteria Evaluation may be found on the Region 10 Web site at http://yosemite.epa.gov/r10/water.nsf/NPDES+Permits/General+NPDES+Permits/#oilgas.

SUPPLEMENTARY INFORMATION: EPA prepared a Biological Evaluation for consultation with the U.S. Fish and Wildlife Service and the National Marine Fisheries Service. EPA received concurrence from both Services on a Not Likely to Adversely Affect determination.

Executive Order 12866: The Office of Management and Budget has exempted this action from the review requirements of Executive Order 12866 pursuant to Section 6 of that order.

Regulatory Flexibility Act: Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA. Notwithstanding that general permits are not subject to the RFA, EPA has determined that this GP, as issued, will not have a significant economic impact on a substantial number of small entities.

Dated: July 29, 2015.
Daniel D. Opalski,
Director, Office of Water & Watersheds, Region 10.

[FR Doc. 2015-19255 Filed 8-4-15; 8:45 am]

BILLING CODE 6560-50-P